NATIONAL COMMUNICATIONS SYSTEM

National Security Telecommunications Advisory Committee

AGENCY: National Communications System (NCS).

ACTION: Notice of meeting.

SUMMARY: A meeting of the President's National Security Telecommunications Advisory Committee will be held on Tuesday, May 16, 2000, from 9 a.m. to 11:30 a.m. The Business Session will be held at the Broadmoor Hotel, Colorado Springs, Colorado.

The agenda is as follows:

—Call to Order

—Opening Remarks

—Information Assurance in the 21st Century Briefing

—Perspectives on Importance of Operational Information Sharing to the Success of PDD-63 Implementation Briefing

—Evolution of U.S. Space Command's Role in Information Operations Briefing

—National Communications System Manager's Report

—Industry Executive Subcommittee Report

—Adjournment

Due to the potential requirement to discuss classified information in conjunction with the issues listed above, the meeting will be closed to the public in the interest of National Defense.

FOR FURTHER INFORMATION CONTACT: Telephone (703) 607-6209 or write the Manager, National Communications System, 701 South Court House Road, Arlington, VA 22204-2198.

Frank McClelland,
Technology and Programs Division (N2).

[FR Doc. 00-9210 Filed 4-12-00; 8:45 am]

BILLING CODE 5001-08-M